ENVIRONMENTAL PROTECTION AGENCY

40 CFR Part 52

[EPA-R01-OAR-2011-0148; A-1-FRL-9926-51-Region 1]

Approval and Promulgation of Air Quality Implementation Plans; Rhode Island: Prevention of Significant Deterioration

AGENCY: Environmental Protection Agency.

ACTION: Final rule.

SUMMARY: This document announces that the Environmental Protection Agency (EPA) is taking final action approving revisions to the Rhode Island State Implementation Plan (SIP) submitted by Rhode Island Department of Environmental Management (RI DEM) Office of Air Resources, on January 18, 2011. The EPA finds that RI DEM has satisfied all the elements of our October 24, 2013, final conditional approval, and as such, the conditional approval is converting to a full approval with this action. The commitment consisted of a submission by Rhode Island of a technical demonstration, that Rhode Island's PSD and nonattainment new source review permitting programs are at least as stringent in all respects as EPA's NSR Reform provisions for stationary sources of regulated NSR pollutants other than Greenhouse Gases (GHGs). This action is being taken under section 110 of the Act.

DATES: This rule is effective April 21, 2015.

ADDRESSES: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at U.S. Environmental Protection Agency, EPA New England Regional Office, Office of Ecosystem Protection, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

In addition, copies of the state submittal are also available for public inspection during normal business hours, by appointment at the Office of Air Resources, Department of Environmental Management, 235 Promenade Street, Providence, RI 02908-5767;

FOR FURTHER INFORMATION CONTACT: Ida E. McDonnell, U.S. Environmental Protection Agency, EPA New England Regional Office, Office of Ecosystem Protection, Air Permits, Toxics, and Indoor Programs Unit, 5 Post Office Square—Suite 100, (mail code OEP05-2), Boston, MA 02109-3912. Ms. Ida E. McDonnell's telephone number is (617) 918-1653; email address: mcdonnell.ida@epa.gov.

SUPPLEMENTARY INFORMATION: Throughout this document whenever “we,” “us,” or “our” is used, we mean EPA.

Organization of this document. The following outline is provided to aid in locating information in this preamble.

Table of Contents

I. Background

II. What is a conditional approval?

III. What are the terms of the conditional approval?

IV. Were the terms of the conditional approval met?

V. Final Action

I. Background

On October 24, 2013, EPA conditionally approved, pending submission by Rhode Island of a technical demonstration that Rhode Island's January 18, 2011 SIP revisions as they relate to major new and modified stationary sources of regulated NSR pollutants other than GHGs, are as least as stringent as EPA's NSR reform. See 78 FR 63383. On February 27, 2015, the State Rhode Island submitted a technical demonstration, pursuant to 40 CFR 51.166(a)(7), that Rhode Island's PSD and nonattainment new source review permitting programs are at least as stringent in all respects as EPA's NSR Reform provisions for stationary sources of regulated NSR pollutants other than GHGs.

II. What is a conditional approval?

Under section 110(k)(4) of the Clean Air Act, the EPA may conditionally approve a plan based on a commitment from the State to adopt specific enforceable measures by a date certain no later than one year from the date of final conditional approval. If the EPA subsequently determines that the State has met its commitment, EPA publishes a document in the Federal Register notifying the public that EPA is converting the conditional approval to a full approval. However, if the State fails to timely meet its commitment, then the conditional approval automatically converts to a disapproval by operation of law without further action required by EPA. If that were to occur, EPA would then notify the state by letter. At that time, the conditionally approved SIP revisions would not be part of the state's approved SIP. EPA subsequently would publish a notice in the Federal Register notifying the public that the conditional approval automatically converted to a disapproval.

III. What are the terms of the conditional approval?

The EPA conditionally approved Rhode Island's January 18, 2011 SIP revision as it relates to major new and modified stationary sources of regulated NSR pollutants other than GHGs on October 24, 2013. See 78 FR 63383. Our conditional approval was based on a commitment letter submitted by RI DEM on September 18, 2013. Specifically, RI DEM committed to submit a revised technical demonstration (described above) no later than one year from the date on which EPA finalized the conditional approval.

IV. Were the terms of the conditional approval met?

RI DEM failed to submit the technical demonstration in a timely manner, therefore our conditional approval, by operation of law, became a disapproval on December 23, 2014. However, on February 27, 2015, RI DEM submitted the technical demonstration pursuant to 40 CFR 51.166(a)(7), showing that Rhode Island's PSD and nonattainment new source review permitting programs are at least as stringent in all respects as EPA's NSR Reform provisions for stationary sources of regulated NSR pollutants other than GHGs. Rhode Island's technical demonstration is included in the docket and administrative record for this action.

EPA therefore has determined that RI DEM met the conditions of the conditional approval.

V. Final Action

EPA is converting the conditional approval to a full approval with this action. Rhode Island's February 27, 2015 submission cured, as a legal matter, the disapproval that automatically occurred on December 23, 2014. Thus, the provisions of Rhode Island's SIP that EPA conditionally approved on October 24, 2013 are now fully approved into the State's SIP.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 26, 2015.
H. Curtis Spalding,
Regional Administrator, EPA New England.

[FR Doc. 2015-09017 Filed 4-20-15; 8:45 am]

BILLING CODE 6560-50-P